DEPARTMENT OF COMMERCE

National Institute of Standards and Technology

Open Meeting of the Information Security and Privacy Advisory Board

AGENCY: National Institute of Standards and Technology.

ACTION: Notice.

SUMMARY: The Information Security and Privacy Advisory Board (ISPAB) will meet Wednesday, July 12, 2023, from 10:00 a.m. until 4:30 p.m., Eastern Time, and Thursday, July 13, 2023, from 10:00 a.m. until 4:00 p.m., Eastern Time. All sessions will be open to the public.

DATES: The meeting will be held on Wednesday, July 12, 2023, from 10 a.m. until 4:30 p.m., Eastern Time, and Thursday, July 13, 2023, from 10 a.m. until 4:00 p.m., eastern time.

ADDRESSES: The meeting will be held at Stewart Lee Udall Department of the Interior Building, 1849 C Street NW, Washington, DC 20240. Please note admittance instructions under the SUPPLEMENTARY INFORMATION section of this notice.

FOR FURTHER INFORMATION CONTACT: Jeff Brewer, Information Technology Laboratory, NIST, 100 Bureau Drive, Stop 8930, Gaithersburg, MD 20899-8930, Telephone: (301) 975-2489, Email address: jeffrey.brewer@nist.gov.

SUPPLEMENTARY INFORMATION:

Pursuant to the Federal Advisory Committee Act, as amended, 5 U.S.C. app., notice is hereby given that the ISPAB will meet Wednesday, July 12, 2023, from 10 a.m. until 4:30 p.m., Eastern Time, and Thursday, July 13, 2023, from 10 a.m. until 4:00 p.m., eastern time. All sessions will be open to the public. The ISPAB is authorized by 15 U.S.C. 278g-4, as amended, and advises the National Institute of Standards and Technology (NIST), the Secretary of Homeland Security, and the Director of the Office of Management and Budget (OMB) on information security and privacy issues pertaining to Federal government information systems, including through review of proposed standards and guidelines developed by NIST. Details regarding the ISPAB's activities are available at https://csrc.nist.gov/projects/ispab.

The agenda is expected to include the following items:

—Board Introductions and Member Activities,

—Remarks from NIST Director and the Under Secretary of Commerce and Technology,

—Update from NIST's Information Technology Laboratory (ITL) Director,

—Discussion on Issues Facing the U.S. Government Related to Privacy,

—Presentation on from NIST on Privacy Enhancing Technologies,

—Presentation from NIST on the U.S. Government National Standards Strategy for Critical and Emerging Technology,

—Discussion on Identity Technical Challenges and Policies,

—Presentation from the Office of the National Cyber Director on the National Cybersecurity Strategy Implementation Plan,

—Presentation from the Department of Homeland Security (DHS) on Secure Software Attestation,

—Discussion on IoT Cybersecurity Labeling,

—Public comments,

—Board Discussions and Recommendations.

Note that agenda items may change without notice. The final agenda will be posted on the ISPAB event page: https://csrc.nist.gov/Events/2023/ispab-july-2023-meeting. Seating will be available for the public and media.

Public Participation: Written questions or comments from the public are invited and may be submitted electronically by email to Jeff Brewer at the contact information indicated in the FOR FURTHER INFORMATION CONTACT section of this notice by 5 p.m., eastern time, on Tuesday, July 11, 2023.

The ISPAB agenda will include a period, not to exceed thirty minutes, for submitted questions or comments from the public between 3 p.m. and 3:30 p.m. on Wednesday, July 12, 2023. Submitted questions or comments from the public will be selected on a first-come, first-served basis and limited to five minutes per person.

Members of the public who wish to expand upon their submitted statements, those who had wished to submit a question or comment but could not be accommodated on the agenda, and those who were unable to attend the meeting are invited to submit written statements. In addition, written statements are invited and may be submitted to the ISPAB at any time. All written statements should be directed to the ISPAB Secretariat, Information Technology Laboratory by email to: jeffrey.brewer@nist.gov.

Admittance Instructions: Pre-registration is required to attend this meeting due to security requirements in the building. It is recommended to allow thirty minutes to process through security. All visitors must enter the Udall Building through the C Street lobby, located between 18th and 19th Streets NW.

—All individuals over 18 years of age are required to present a valid, government-issued photo ID to enter the building.

—All visitors are subject to security screenings, including bag and parcel checks. Please note there are no locker facilities for visitors to store belongings.

—All visitors must comply with COVID-19 restrictions as posted at the building entrance.

Any individual who wishes to attend the meeting should register via email at: jeffrey.brewer@nist.gov prior to the registration deadline of 5:00 p.m., Eastern Time, July 11, 2023.

Alicia Chambers,
NIST Executive Secretariat.

[FR Doc. 2023-12170 Filed 6-6-23; 8:45 am]

BILLING CODE 3510-13-P